DEPARTMENT OF COMMERCE

National Oceanic and Atmospheric Administration

[RTID 0648-XC527]

South Atlantic Fishery Management Council; Public Meeting

AGENCY: National Marine Fisheries Service (NMFS), National Oceanic and Atmospheric Administration (NOAA), Commerce.

ACTION: Notice of public meeting.

SUMMARY: The South Atlantic Fishery Management Council (Council) will hold meetings of the following: Snapper Grouper Committee; Mackerel Cobia Committee; and Outreach and Communication Committee. The meeting week will also include a formal public comment session and a meeting of the Full Council.

DATES: The Council meeting will be held from 8:30 a.m. on Monday, December 5, 2022, until 12 p.m. on Friday, December 9, 2022.

ADDRESSES:

Meeting address: The meeting will be held at the Blockade Runner Hotel, 275 Waynick Boulevard, Wrightsville Beach, NC 28480; phone: (877) 684-8009. The meeting will also be available via webinar. Registration is required. See SUPPLEMENTARY INFORMATION.

FOR FURTHER INFORMATION CONTACT: Kim Iverson, Public Information Officer, SAFMC; phone: (843) 302-8440 or toll free: (866) SAFMC-10; fax: (843) 769-4520; email: kim.iverson@safmc.net.

SUPPLEMENTARY INFORMATION: Meeting information, including agendas, overviews, and briefing book materials will be posted on the Council's website at: http://safmc.net/safmc-meetings/council-meetings/. Webinar registration links for the meeting will also be available from the Council's website.

Public comment: Public comment on agenda items may be submitted through the Council's online comment form available from the Council's website at: http://safmc.net/safmc-meetings/council-meetings/. Comments will be accepted from November 18, 2022, until December 9, 2022. These comments are accessible to the public, part of the Administrative Record of the meeting, and immediately available for Council consideration.

The items of discussion in the individual meeting agendas are as follows:

Council Session I, Monday, December 5, 2022, 8:30 a.m. Until 10:30 a.m. (CLOSED Session)

The Council will meet in Closed Session to review applicants for open seats on its advisory panels and address other issues relative to the Council's advisory panel policy as needed.

Council Session I, Monday, December 5, 2022, 10:30 a.m. Until 12 p.m. (Open Session)

The Council will receive reports from state agencies, Council liaisons, NOAA Office of Law Enforcement, and the U.S. Coast Guard. The Council will receive updates on the Commercial Electronic Logbook Amendment, the proposed Hudson Canyon National Marine Sanctuary, and review initial draft comments on the Florida Keys National Marine Sanctuary Proposed Rule. The Council will also review the Acceptable Biological Catch (ABC) Control Rule Amendment and consider approving the amendment for Secretarial review. The Council will also discuss the East Coast Climate Change Scenario Planning Initiative and provide recommendations and key discussion topics for the 2023 Climate Change Scenario Planning Summit Meeting.

Snapper Grouper Committee, Tuesday, December 6, 2022, 8:30 a.m. Until 5 p.m. and Wednesday, December 7, 2022, From 8:30 a.m. Until 3:45 p.m.

The Committee will receive input from the Snapper Grouper Advisory Panel (AP) and the Council's Scientific and Statistical Committee (SSC) relative to Snapper Grouper Regulatory Amendment 35 (Release Mortality Reduction and Red Snapper Catch Levels) and consider approving the amendment for public hearings.

The Committee will receive feedback on the Management Strategy Evaluation for the Snapper Grouper fishery from the Snapper Grouper AP and the SSC. The Committee will review the Recreational Permitting and Reporting Amendment (Snapper Grouper Amendment 46), consider reports from the Snapper Grouper Recreational Permitting and Reporting Technical Advisory Panel and the Section 102 Workgroup, and consider approving the amendment for scoping. Management measures for gag grouper and black grouper will be discussed as included in Snapper Grouper Amendment 53 and input from the Snapper Grouper AP considered. The Committee will review Snapper Grouper Amendment 51 addressing management of snowy grouper and Snapper Grouper Amendment 52, addressing management of golden tilefish and blueline tilefish, and consider approving both amendments for Secretarial review.

Finally, the Committee will consider recommendations from the Snapper Grouper AP not on the agenda.

Formal Public Comment, Wednesday, December 7, 2022, 4 p.m..—Public comment will be accepted from individuals attending the meeting in person and via webinar on all items on the Council meeting agenda. The Council Chair will determine the amount of time provided to each commenter based on the number of individuals wishing to comment.

Council Session II, Thursday, December 8, 2022, 8 a.m. Until 9 a.m. (CLOSED Session)

The Council will meet in Closed Session for a performance review of the Executive Director.

Mackerel Cobia Committee, Thursday, December 8, 2022, 9 a.m. Until 12 p.m.

The Committee will receive a report from the Mackerel Cobia AP, an update of Amendment 33 to the Coastal Migratory Pelagic Fishery Management Plan (FMP) for the Gulf of Mexico and South Atlantic affecting Gulf of Mexico king mackerel and consider recent actions by the Gulf of Mexico Fishery Management Council. The Committee will also receive recommendations from the SSC regarding Atlantic Spanish mackerel and consider using the Allocation Decision Tool for the fishery. The Committee will review a white paper addressing false albacore management issues and also discuss port meetings for the mackerel fishery.

Outreach and Communications Committee, Thursday, December 8, 2022, 1:30 p.m. Until 2:30 p.m.

The Committee will receive a report from the Outreach and Communications AP and review the draft Best Fishing Practices Outreach Program (to inform Snapper Grouper Regulatory Amendment 35).

Council Session III, Thursday, December 8, 2022, 2:30 p.m. Until 5 p.m. and Friday, December 9, 2022, 8:30 a.m. Until 12 p.m.

The Council will receive staff reports, receive an update on Council Member Ongoing Development (CMOD), a report from the Habitat Protection and Ecosystem-Based Management AP, an update from the Atlantic Large Whale Take Reduction Team, and SSC recommendations not addressed in Committee meetings.

The Council will receive reports from NOAA Fisheries Southeast Regional Office and the Southeast Fisheries Science Center. The Council will receive Committee reports, review its workplan for the next quarter, upcoming meetings, and take action as necessary. The Council will discuss any other business as needed.

Documents regarding these issues are available from the Council office (see ADDRESSES).

Although non-emergency issues not contained in this agenda may come before this group for discussion, those issues may not be the subject of formal action during these meetings. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for auxiliary aids should be directed to the Council office (see ADDRESSES) 5 days prior to the meeting.

Note: The times and sequence specified in this agenda are subject to change.

Authority: 16 U.S.C. 1801 et seq.

Dated: November 14, 2022.
Diane M. DeJames-Daly,
Acting Deputy Director, Office of Sustainable Fisheries, National Marine Fisheries Service.

[FR Doc. 2022-25057 Filed 11-16-22; 8:45 am]

BILLING CODE 3510-22-P